DEPARTMENT OF DEFENSE

Department of the Army

Intent To Grant an Exclusive License of U.S. Government-Owned Patents

AGENCY: Department of the Army, DoD.

ACTION: Notice.

SUMMARY: In accordance with 35 U.S.C. 209(e) and 37 CFR 404.7(a)(1)(i), announcement is made of the intent to grant an exclusive, royalty-bearing, revocable license to U.S. Patents 7,899,687; 8,510,129; and 8,682,692; issued respectively on March 1, 2011, August 13, 2013 and March 25, 2014, entitled respectively “System and method for handling medical information,” “Medical information handling system and method,” and “Medical information handling method, and Australia patent application 2003234535, Canada patent CA2486089 C, issued December 17, 2013, and European Patent Office patent applications EPC 03728877.6 and 12170241.9 to Vista Partners Inc., with its principal place of business at 5645 Saddle Creek Trail, Parker, CO 80134.

ADDRESSES: Commander, U.S. Army Medical Research and Materiel Command, ATTN: Command Judge Advocate, MCMR-JA, 504 Scott Street, Fort Detrick, MD 21702-5012.

FOR FURTHER INFORMATION CONTACT: For licensing issues, Mr. Barry Datlof, Office of Research & Technology Assessment, (301) 619-0033. For patent issues, Ms. Elizabeth Arwine, Patent Attorney, (301) 619-7808, both at telefax (301) 619-5034.

SUPPLEMENTARY INFORMATION: Anyone wishing to object to grant of this license can file written objections along with supporting evidence, if any, within 15 days from the date of this publication. Written objections are to be filed with the Command Judge Advocate (see ADDRESSES).

Brenda S. Bowen,
Army Federal Register Liaison Officer.

[FR Doc. 2016-00677 Filed 1-14-16; 8:45 am]

BILLING CODE 3710-08-P